DEPARTMENT OF HEALTH AND HUMAN SERVICES

Administration for Children and Families

Submission for OMB Review; Comment Request

Title: State Access and Visitation Grant Application.

OMB No.: 0970—NEW.

Description

The Personal Responsibility and Work Opportunity Reconciliation Act of 1996 (PRWORA) created the “Grants to States for Access and Visitation” program (AV grant program). Funding for the program began in FY 1997 with a capped, annual entitlement of $10 million. The statutory goal of the program is to provide funds to states that will enable them to provide services for the purpose of increasing noncustodial parent (NCP) access to and visitation with their children. State governors decide which state entity will be responsible for implementing the AV grant program and the state determines who will be served, what services will be provided, and whether the services will be statewide or in local jurisdictions. The statute specifies certain activities which may be funded, including: voluntary and mandatory mediation, counseling, education, the development of parenting plans, supervised visitation, and the development of guidelines for visitation and alternative custody arrangements. Even though OCSE manages this program, the funding for the AV grant is separate from funding for federal and state administration of the Child Support program.

Section 469B(e)(3) of the Social Security Act (Pub. L. 104-193) requires that each state receiving an Access and Visitation (AV) grant award monitor, evaluate and report on such programs in accordance with regulations (45 CFR part 303). The AV Grant Program Terms and Conditions Addendum references administration of the grant program in accordance with an approved state application. Additionally, the Catalog of Federal Domestic Assistance, states that there is an application requirement for Grants to States for Access and Visitation Programs (93.597). The application process will assist OCSE in complying with this requirement and will reflect a greater emphasis on program efficiency, coordination of services, and increased attention to family safety.

This new, modified application reflects a greater emphasis on program efficiency, coordination of services, and increased attention to family safety. This application will cover three fiscal years. The applications will include information on how grantees plan to: spend grant funds, monitor service delivery, and implement safety protocols to ensure client and staff safety. OCSE will review the applications to ensure compliance with federal regulation and provide enhanced targeted technical assistance. The application will also assist states in strategic planning of services and knowledge sharing.

OCSE will review the applications to ensure that planned services meet the requirements laid out in Section 469B(e)(3) of the Social Security Act (Pub. L. 104-193). This review will include monitoring of program compliance and the safe delivery of services. In addition to monitoring, the report will also assist in OCSE's ability to provide technical assistance to states that would like assistance.

Respondents: Recipients of the Access & Visitation Grant (54 states and territories).

Annual Burden Estimates
Instrument | Number of respondents | Number of responses per respondent | Average burden hours per response | Total burden hours
Fillable word document | 54 | 1 | 10 | 540

Estimated Total Annual Burden Hours: 540.

Additional Information:

Copies of the proposed collection may be obtained by writing to the Administration for Children and Families, Office of Planning, Research and Evaluation, 330 C Street SW., Washington, DC 20201. Attention Reports Clearance Officer. All requests should be identified by the title of the information collection. Email address: infocollection@acf.hhs.gov.

OMB Comment

OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Email: OIRA_SUBMISSION@OMB.EOP.GOV, Attn: Desk Officer for the Administration for Children and Families.

Robert Sargis,
Reports Clearance Officer.

[FR Doc. 2016-09599 Filed 4-25-16; 8:45 am]

BILLING CODE 4184-01-P